DEPARTMENT OF ENERGY

Federal Energy Regulatory Commission

[Docket No. RP04-264-000]

ANR Pipeline Company; Notice Of Tariff Filing

April 27, 2004.

Take notice that on April 22, 2004, ANR Pipeline Company (ANR) tendered for filing and approval the following revised tariff sheets to include provisions regarding the reservation of capacity for future expansions on its pipeline system.

First Revised Sheet No. 101B

Original Sheet No. 101C

Original Sheet No. 101D

Sixth Revised Sheet No. 102

Second Revised Sheet No. 162.01

ANR requests that the Commission accept and approve the revised tariff sheets to be effective June 1, 2004.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-987 Filed 4-30-04; 8:45 a.m.]

BILLING CODE 6717-01-P